DEPARTMENT OF COMMERCE

National Oceanic and Atmospheric Administration

50 CFR Part 679

[Docket: 230616-0152]

RIN 0648-BL54

Fisheries of the Exclusive Economic Zone Off Alaska; Amendment 124 to the BSAI FMP for Groundfish and Amendment 112 to the GOA FMP for Groundfish To Revise IFQ Program Regulations; Correction

AGENCY: National Marine Fisheries Service (NMFS), National Oceanic and Atmospheric Administration (NOAA), Commerce.

ACTION: Final rule; correcting amendment.

SUMMARY: This action corrects an inadvertent drafting error in final regulations published in the Federal Register on February 27, 2023, and effective on February 27, 2023. NMFS is correcting regulations to revise the date after which only an eligible community resident of Adak, Alaska may receive by transfer any individual fishing quota (IFQ) held by a community quota entity (CQE) in the Aleutian Islands subarea. In the final rule published on February 27, 2023, NMFS intended to extend by five years the date after which only an eligible community resident of Adak, AK may use or receive by transfer CQE IFQ. This action completes the removal of the Adak CQE residency requirement for a period of five years.

DATES: This rule is effective on June 23, 2023.

FOR FURTHER INFORMATION CONTACT: Alicia M. Miller, 907-586-7228 or Alicia.m.miller@noaa.gov.

SUPPLEMENTARY INFORMATION: The North Pacific Fishery Management Council (Council) recommended and NMFS issued a final rule to implement Amendment 124 to the Fishery Management Plan for Groundfish of the Bering Sea and Aleutian Islands Management Area (BSAI FMP) and Amendment 112 to the Fishery Management Plan for Groundfish of the Gulf of Alaska (GOA FMP) (88 FR 12259, February 27, 2023). One element of that final rule temporarily removed the Adak CQE residency requirement for a period of five years. The final rule's intent was to suspend the residency requirement for five years for both transfer and use of CQE IFQ. The final rule revised regulations at § 679.42(e)(8)(ii) and (f)(7)(ii) that otherwise limit the use of sablefish and halibut quota share to eligible community residents of Adak, Alaska. However, the final rule failed to make a corresponding revision at § 679.41(g)(6)(ii).

This action is necessary to correct an inadvertent drafting error in final regulations published on February 27, 2023. NMFS overlooked revising a regulation related to the Adak residency requirement and amending it to impose its suspension for a five-year period. This action corrects that error and modifies regulations at § 679.41(g)(6)(ii) to change the date after which only an eligible community resident of Adak, Alaska may receive by transfer IFQ held by a CQE in the Aleutian Islands subarea. This correcting amendment will fully implement the removal of the Adak CQE residency requirement for a period of five years as intended under the final rule published on February 27, 2023.

Classification

NMFS is issuing this rule pursuant to 304(b) of the Magnuson-Stevens Fishery Conservation and Management Act (MSA). The NMFS Assistant Administrator for Fisheries (AA) has determined that this final rule is consistent with the BSAI and GOA FMPs and other applicable law.

Pursuant to 5 U.S.C. 553(b)(B), the AA finds there is good cause to waive prior notice and an opportunity for public comment on this action, as notice and comment would be unnecessary and contrary to public interest in clear and accurate regulations. This action corrects an inadvertent error and makes necessary clarifications to the February 27, 2023 final rule (88 FR 12259). Expeditious correction of the error and clarification is necessary to prevent confusion among participants in the fishery, as the fishery has already begun. In addition, notice and comment is unnecessary because this action makes only a minor change to correct an inadvertent error in final regulations published in the February 27, 2023 final rule (88 FR 12259). This correction will not affect the results of analyses conducted to support management decisions under the IFQ Program. This correction is consistent with the Council's intent for regulations, and the public expected the regulations to be written as they are in this correction. No change in operating practices in the fishery is required.

Similarly, the AA has determined good cause exists to waive the 30-day delay in effectiveness pursuant to 5 U.S.C. 553(d). The change in this action should be effective immediately to prevent further confusion among participants in the fishery. This notice makes only a minor correction to the final rule which was effective February 27, 2023. Delaying effectiveness of this correction would result in conflicting mandates in the regulations and confusion among fishery participants.

Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This final rule is not significant under Executive Order 12866.

This final rule contains no information collection requirements under the Paperwork Reduction Act of 1995.

List of Subjects in 50 CFR Part 679

Alaska, Fisheries, Reporting and recordkeeping requirements.

Date: June 16, 2023.
Samuel D. Rauch, III,
Deputy Assistant Administrator for Regulatory Programs, National Marine Fisheries Service.

For the reasons set out in the preamble, NMFS amends 50 CFR part 679 as follows:

PART 679—FISHERIES OF THE EXCLUSIVE ECONOMIC ZONE OFF ALASKA

1. The authority citation for part 679 continues to read as follows:

Authority: 16 U.S.C. 773 et seq.; 1801 et seq.; 3631 et seq.; Pub. L. 108-447; Pub. L. 111-281.

2. In § 679.41, revise paragraph (g)(6)(ii) to read as follows:

§ 679.41 Transfer of quota shares and IFQ.

* * * * *

(g) * * *

(6) * * *

(ii) In the Aleutian Islands subarea may be used by any person who has received an approved Application for Eligibility as described in paragraph (d) of this section prior to February 28, 2028 and only by an eligible community resident of Adak, AK, after February 28, 2028.

* * * * *

[FR Doc. 2023-13391 Filed 6-22-23; 8:45 am]

BILLING CODE 3510-22-P